DEPARTMENT OF COMMERCE

National Oceanic and Atmospheric Administration

[RTID 0648-XB823]

Pacific Bluefin Tuna United States Stakeholder Meeting; Meeting Announcement

AGENCY: National Marine Fisheries Service (NMFS), National Oceanic and Atmospheric Administration (NOAA), Commerce.

ACTION: Notice of public meeting.

SUMMARY: NMFS announces a public meeting to discuss a Pacific bluefin tuna (PBF) long-term harvest strategy. This meeting is intended to prepare for potential discussions at the 2022 meeting of the Joint Inter-American Tropical Tuna Commission (IATTC)—Western and Central Pacific Fisheries Commission (WCPFC) Northern Committee (NC) Working Group on a long-term harvest strategy for PBF fisheries across the Pacific Ocean. The meeting topics are described under the SUPPLEMENTARY INFORMATION section of this notice.

DATES: The virtual meeting will be held on April 1, 2022, from 12 p.m. to 4 p.m. PST (or until business is concluded). You must complete the registration process by March 23, 2022, if you plan to attend the meeting (see ADDRESSES). Members of the public may submit written comments on meeting topics or materials to Celia Barroso at celia.barroso@noaa.gov by March 23, 2022, and may also provide oral comments during the virtual meeting.

ADDRESSES: If you plan to attend the meeting, which will be held by webinar, please register at https://forms.gle/qQZzdp6LVXn2K9KD6. Instructions for attending the meeting will be emailed to meeting participants before the meeting occurs.

FOR FURTHER INFORMATION CONTACT: Celia Barroso, NMFS West Coast Region at celia.barroso@noaa.gov, 562-432-1850.

SUPPLEMENTARY INFORMATION: During the 6th Meeting of the Joint IATTC-WCPFC NC Working Group (JWG) meeting (July 27-29, 2021, Japan Time), the International Scientific Committee on Tuna and Tuna-like Species in the North Pacific Ocean (ISC) recommended that, in order to proceed with the development of a long-term harvest strategy for PBF, the JWG consider management objectives and metrics by which to measure whether a proposed harvest strategy will meet those management objectives. This April 1 meeting is to prepare for anticipated discussions at the 2022 meeting of the JWG regarding the process and information needed to evaluate the effectiveness of potential harvest strategies.

PBF U.S. Stakeholder Meeting Topic

The agenda for this meeting will be distributed to participants in advance of the meeting. The meeting agenda will include a discussion on management objectives and metrics to measure how potential future harvest strategies for PBF meet those objectives.

Special Accommodations

Requests for sign language interpretation or other auxiliary aids should be indicated when registering for the meeting (see ADDRESSES) by March 23, 2022.

(Authority: 16 U.S.C. 951 et seq., 16 U.S.C. 1801 et seq., and 16 U.S.C. 6901 et seq.)

Dated: February 17, 2022.
Ngagne Jafnar Gueye,
Acting Director, Office of Sustainable Fisheries, National Marine Fisheries Service.

[FR Doc. 2022-03853 Filed 2-22-22; 8:45 am]

BILLING CODE 3510-22-P